DEPARTMENT OF LABOR

Occupational Safety and Health Administration

[Docket No. ICR-1218-0233 (2002)]

Construction Records for Rigging Equipment; Extension of the Office of Management and Budget's (OMB) Approval of Information-Collection (Paperwork) Requirements

AGENCY: Occupational Safety and Health Administration (OSHA), Labor.

ACTION: Request for comment.

SUMMARY: OSHA solicits public comment concerning its request to extend OMB approval of the information-collection requirements specified in paragraphs (b)(1), (b)(6)(i), (c)(15)(iii), (e)(1)(i), (ii), (iii), and (f)(2) of the Rigging Equipment for Construction Standard (29 CFR 1926.251). These paragraphs require affixing identification tags or markings on rigging equipment, developing and maintain inspection records; and retaining proof-testing certificates.

DATES: Submit written comments on or before September 16, 2002.

ADDRESSES: Submit written comments to the Docket Office, Docket No. ICR-1218-0233(2002), OSHA, U.S. Department of Labor, Room N-2625, 200 Constitution Avenue, NW., Washington, DC 20210; telephone: (202) 693-2350. Commenters may transmit written comments of 10 pages or less by facsimile to: (202) 693-1648.

FOR FURTHER INFORMATION CONTACT: Kathleen M. Martinez, Directorate of Policy, Office of Regulatory Analysis, OSHA, U.S. Department of Labor, Room N-3627, 200 Constitution Avenue, NW., Washington, DC 20210; telephone: (202) 693-1953. A copy of the Agency's Information-Collection Request (ICR) supporting the need for the information collections specified by the Rigging Equipment Standard is available for inspection and copying in the Docket Office, or by requesting a copy from Todd Owen at (202) 693-2444. For electronic copies of the ICR contact OSHA on the Internet at http://www.osha.gov/com-links.html and select “Information Collection Requests.”

SUPPLEMENTARY INFORMATION:

I. Background

The Department of Labor, as part of its continuing effort to reduce paperwork and respondent (i.e., employer) burden, conducts a preclearance consultation program to provide the public with an opportunity to comment on proposed and continuing information-collection requirements in accordance with the Paperwork Reduction Act of 1995 (PRA-95) (44 U.S.C. 3506(c)(2)(A)). This program ensures that information is in the desired format, reporting burden (time and cost) is minimal, collection instruments are clearly understood, and OSHA's estimate of the information-collection burden is correct.

The Rigging Equipment in Construction Standard (i.e., “the Standard”) specifies the seven paperwork requirements. The following section describes who uses the information collected under each requirement, as well as how they use it.

• Alloy Steel Chains, Paragraph (b)

Paragraph (b)(1) requires that alloy steel chains have permanently affixed durable identification tags stating size, grade, rated capacity and sling manufacturer. Paragraph (b)(6)(i) requires the employer to make a thorough periodic inspection of alloy steel chain slings in use on a regular basis, but at least once a year. Paragraph (b)(6)(ii) requires the employer to make and maintain a record of the most recent month in which each alloy steel chain was inspected and make the record available for examination.

• End Attachments, Paragraph (c)

Paragraph (c)(15)(ii) requires that all welded end attachments of wire rope slings be proof tested by the manufacturer at twice their rated capacity prior to initial use, and that the employer retain a certificate of the proof test and make it available for examination.

• Synthetic Webbing (Nylon, Polyester, and Polypropylene), Paragraph (e)

Paragraphs (e)(1)(i), (ii), and (iii) requires that synthetic web slings be marked or coded to show the manufacturer's trademark, rated capacity for the type of hitch and type of synthetic web material.

• Shackles and Hooks, Paragraph (f)

Paragraph (f)(2) requires that all hooks for which no applicable manufacturer's recommendations are available be tested to twice the intended safe working load before they are put into use. The employer shall maintain a record of the dates and results of the tests.

II. Special Issues for Comment

OSHA has a particular interest in comments on the following issues.

• Whether the proposed information-collection requirements are necessary for the proper performance of the Agency's functions, including whether the information is useful;

• The accuracy of OSHA's estimate of the burden (time and cost) of the information-collection requirements, including the validity of the methodology and assumptions used;

• The quality, utility, and clarity of the information collected; and

• Ways to minimize the burden on employers who must comply; for example, by using automated or other technological information-collection and -transmission techniques.

III. Proposed Actions

OSHA proposes to extend OMB's previous approval of the recordkeeping (paperwork) requirements specified in these paragraphs of the Rigging Equipment Standard (29 CFR 1926.251). The Agency will summarize the comments submitted in response to this notice, and will include this summary in its request to OMB to extend the approval of this information-collection requirement.

Type of Review: Extension of currently approved information-collection requirements.

Title: Rigging Equipment for Material Handling.

OMB Number: 1218-0233.

Affected Public: Business or other for-profit; not-for-profit institutions; Federal government; State, local or tribal governments.

Number of respondents: 132,737.

Frequency of Response: On occasion.

Total Responses: 301,618.

Average Time per Response: Average 3 minutes for an employer to maintain and disclose a certificate to 30 minutes for employer to acquire information and make a tag for a sling.

Estimated Total Burden Hours: 56,235.

Estimated Cost (Operation and Maintenance): $0.

IV. Authority and Signature

John L. Henshaw, Assistant Secretary of Labor for Occupational Safety and Health, directed the preparation of this notice. The authority for this notice is the Paperwork Reduction Act of 1995 (44 U.S.C. 3506) and Secretary of Labor's Order No. 3-2000 (65 FR 50017).

Signed at Washington, DC, on July 12, 2002.
John L. Henshaw,
Assistant Secretary of Labor.

[FR Doc. 02-18124 Filed 7-17-02; 8:45 am]

BILLING CODE 4510-26-M